DEPARTMENT OF COMMERCE

National Oceanic and Atmospheric Administration

RIN 0648-XD882

Fisheries of the Caribbean, Gulf of Mexico, and South Atlantic; Snapper-Grouper Fishery Off the South Atlantic States; Amendment 36

AGENCY: National Marine Fisheries Service (NMFS), National Oceanic and Atmospheric Administration (NOAA), Commerce.

ACTION: Notice announcing the preparation of an environmental assessment (EA).

SUMMARY: NMFS, Southeast Region, in collaboration with the South Atlantic Fishery Management Council (Council), is preparing an EA for Amendment 36 to the Fishery Management Plan (FMP) for the Snapper-Grouper Fishery of the South Atlantic Region (Amendment 36). Amendment 36 considers alternatives to implement special management zones (SMZs) in the exclusive economic zone of the South Atlantic. This notice is intended to inform the public of the change from the preparation of a draft environmental impact statement (DEIS) to an EA for Amendment 36.

FOR FURTHER INFORMATION CONTACT: Rick DeVictor, NMFS Southeast Regional Office, telephone: 727-824-5305, or email: rick.devictor@noaa.gov.

SUPPLEMENTARY INFORMATION: An NOI to prepare a DEIS for Amendment 36 was published in the Federal Register on April 8, 2015 (80 FR 18823). The NOI indicated that Amendment 36 would be supported by an environmental impact statement, which was the preliminary determination at the time the original purpose and need of the amendment was drafted. In addition to publication of the NOI, the Council held scoping meetings for Amendment 36 from April 20-23, 2015. When the Council first requested development of this amendment, they were considering SMZs of comparably larger sizes. A reassessment of the actions in Amendment 36 relative to the National Environmental Policy Act indicates an EA is appropriate. Therefore, a DEIS will not be prepared for Amendment 36 at this time.

Through Amendment 36, the Council is considering modifications to the SMZ process and framework procedures to include the consideration of SMZs that would protect locations where snapper-grouper species are likely to spawn and natural habitats that support spawning fish. Protecting locations where fish spawn and protecting natural habitats that support spawning fish may act as an effective strategy when managing a sustainable fish population. In the EA, the Council is also considering the implementation of SMZs to protect spawning snapper-grouper species in the South Atlantic region, in addition to specifying the anchoring, transit, and sunset provisions. Sunset provisions designate the date that the SMZs would be removed from the regulations unless retained through action by the Council and NMFS.

Authority: 16 U.S.C. 1801 et seq.

Dated: January 27, 2016.
Emily H. Menashes,
Acting Director, Office of Sustainable Fisheries, National Marine Fisheries Service.

[FR Doc. 2016-01756 Filed 1-29-16; 8:45 am]

BILLING CODE 3510-22-P